FEDERAL TRADE COMMISSION

Granting of Request for Early Termination of the Waiting Period Under the Premerger Notification Rules

Section 7A of the Clayton Act, 15 U.S.C.§ 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
February 1, 2016 Thru February 9, 2016
02/01/2016
20160577 | G | Raymond James Financial, Inc.; Deutsche Bank AG; Raymond James Financial, Inc.
20160610 | G | Globetrotter Co-Investment A LP; WS Holdings, Inc. c/o The Carlyle Group; Globetrotter Co-Investment A LP.
20160623 | G | Engineered Floors, LLC; James R. Jolly; Engineered Floors, LLC.
20160631 | G | Glenview Institutional Partners, L.P.; Tenet Healthcare Coporation; Glenview Institutional Partners, L.P.
20160632 | G | Glenview Capital Opportunity Fund, L.P.; Tenet Healthcare Coporation; Glenview Capital Opportunity Fund, L.P.
20160633 | G | Glenview Offshore Opportunity Fund, Ltd.; Tenet Healthcare Coporation; Glenview Offshore Opportunity Fund, Ltd.
20160634 | G | Glenview Capital Partners (Cayman), Ltd.; Tenet Healthcare Coporation; Glenview Capital Partners (Cayman), Ltd.
20160636 | G | Michael S. Dell; Asbury Automotive Group, Inc.; Michael S. Dell.
20160638 | G | OCP Trust; Forefront Management Holdings, LLC; OCP Trust.
20160643 | G | Panasonic Corporation; Clayton Dubilier & Rice Fund VIII, L.P.; Panasonic Corporation.
20160647 | G | Parexel International Corporation; Mark S. Speers and Paula Ness Speers; Parexel International Corporation.
20160649 | G | Mr. Wang Jianlin; Legend Pictures, LLC; Mr. Wang Jianlin.
20160659 | G | Bird 1995 Trust; Concho Resources, Inc.; Bird 1995 Trust.
02/02/2016
20160407 | G | Atlantic Tele-Network, Inc.; National Rural Utilities Cooperative Finance Corporation; Atlantic Tele-Network, Inc.
02/04/2016
20160463 | G | Texas Competitive Electric Holdings Company LLC; NextEra Energy, Inc.; Texas Competitive Electric Holdings Company LLC.
20160658 | G | ABRY Partners VIII, L.P.; Domied Investments Inc.; ABRY Partners VIII, L.P.
02/05/2016
20160612 | G | Almirall, S.A.; ThermiGen Holdings, Inc.; Almirall, S.A.
20160627 | G | IHS Inc.; UCG Holdings Limited Partnership; IHS Inc.
20160639 | G | Acquiline Financial Services Fund III, L.P.; Southwest Frontier, LP; Acquiline Financial Services Fund III, L.P.
20160644 | G | PAR Investment Partners, L.P.; United Continental Holdings, Inc.; PAR Investment Partners, L.P.
20160660 | G | Yahui Zhou; Joel Simkhai; Yahui Zhou.
20160664 | G | Oak Hill Capital Partners IV (Onshore), L.P.; Robert J. Lothenbach; Oak Hill Capital Partners IV (Onshore), L.P.
20160679 | G | Olympus Growth Fund VI, L. P.; G.E.T. Enterprises, LLC; Olympus Growth Fund VI, L. P.
20160688 | G | Archer-Daniels-Midland Company; William J. Burke, Jr. Soy GRAT dated 9/28/12; Archer-Daniels-Midland Company.
02/08/2016
20160665 | G | DNS Venture Partners, LLC; IMI Holding Corp.; DNS Venture Partners, LLC.
20160667 | G | Familie Julius Thyssen; Michael Toporek; Familie Julius Thyssen.
02/09/2016
20160629 | G | Mylan N.V.; Momenta Pharmaceuticals, Inc.; Mylan N.V.
20160672 | G | CDC Holdings, L.P.; TA XI L.P.; CDC Holdings, L.P.
20160692 | G | Sunoco LP; Energy Transfer Equity, L.P.; Sunoco LP.
02/10/2016
20160669 | G | China National Chemical Corporation; Onex Partners III International LP; China National Chemical Corporation.
20160676 | G | Cerberus Institutional Partners, L. P.; Trican Well Service Ltd.; Cerberus Institutional Partners, L. P.
20160703 | G | William Clay Ford, Jr.; Ford Motor Company; William Clay Ford, Jr.
02/11/2016
20160666 | G | AptarGroup Inc.; Mega96 GmbH & Co. KG; AptarGroup Inc.
02/12/2016
20160602 | G | VALEO SA; Andreas Peiker; VALEO SA.
20160622 | G | Computer Sciences Corporation; Xchanging plc; Computer Sciences Corporation.
20160694 | G | Telenor ASA; Are Traasdahl; Telenor ASA.
20160697 | G | AT&T Inc.; Softbank Group Corp.; AT&T Inc.
20160698 | G | Softbank Group Corp.; AT&T Inc.; Softbank Group Corp.
20160702 | G | Select Medical Holdings Corporation; Physiotherapy Associates Holdings, Inc.; Select Medical Holdings Corporation.
20160714 | G | Ingram Micro Inc.; Richard Boone; Ingram Micro Inc.
20160716 | G | Arsenal Capital Partners III LP; Dr. Guanqiu Lu; Arsenal Capital Partners III LP.
20160721 | G | Providence Equity Partners VII-A, LP; TopGolf International, Inc.; Providence Equity Partners VII-A, LP.
20160723 | G | International Business Machines Corporation; Satellite RI, LLC; International Business Machines Corporation.
20160725 | G | WPP plc; Stanley R. Woodland; WPP plc.
20160731 | G | CalAmp Corp.; LoJack Corporation; CalAmp Corp.
02/17/2016
20160504 | G | Diebold, Incorporated; Wincor Nixdorf Aktiengesellschaft; Diebold, Incorporated.
20160653 | G | GTCR Fund X/A LP; Communications Infrastructure Investments, LLC; GTCR Fund X/A LP.
20160726 | G | G Holdings, Inc.; Icopal Limited; G Holdings, Inc.
20160728 | G | Infra TM Investments Inc.; LMG2, LLC; Infra TM Investments Inc.
20160729 | G | AMP Capital Investors (GIF Delaware2) L.P.; LMG2, LLC; AMP Capital Investors (GIF Delaware2) L.P.
02/18/2016
20160674 | G | Michael S. Dell; NorthStar Asset Management Group, Inc.; Michael S. Dell.
02/19/2016
20160712 | G | Elliott Associates, L.P.; Ansaldo STS S.p.A.; Elliott Associates, L.P.
20160715 | G | Fiserv, Inc.; ACI Worldwide, Inc.; Fiserv, Inc.
20160738 | G | Azim Premji; Water Street Healthcare Partners, L.P.; Azim Premji.
02/22/2016
20151563 | G | Lupin Ltd.; Kali Capital LP; Lupin Ltd.
20151565 | G | Lupin Ltd.; Veerappan Subramanian; Lupin Ltd.
20160724 | G | ZAGG Inc; Daniel Huang; ZAGG Inc.
20160730 | G | Centerbridge Capital Partners III, L.P.; Graeme R. Hart; Centerbridge Capital Partners III, L.P.
20160734 | G | General Elecric Company; Steven Goldthwaite; General Elecric Company.
20160744 | G | Dominion Resources, Inc.; Questar Corporation; Dominion Resources, Inc.
02/24/2016
20160696 | G | Veolia Environment S.A.; Kurion, Inc.; Veolia Environment S.A.
20160710 | G | Sinclair Broadcast Group, Inc.; The Tennis Channel Holdings, Inc.; Sinclair Broadcast Group, Inc.
20160722 | G | Legg Mason, Inc.; Mr. Gregg Hymowitz; Legg Mason, Inc.
20160745 | G | TPO Venture Partners, LLC; Daniel L. Baker Family Trust; TPO Venture Partners, LLC.
02/25/2016
20160677 | G | Progressive Waste Solutions Ltd.; Waste Connections, Inc.; Progressive Waste Solutions Ltd.
20160733 | G | Silergy Corp.; Maxim Integrated Products, Inc.; Silergy Corp.
20160746 | G | Stryker Corporation; Madison Dearborn Capital Partners VI-B, L.P.; Stryker Corporation.
02/26/2016
20151485 | G | Hikma Pharmaceuticals PLC; C.H. Boehringer Sohn AG & Co. KG; Hikma Pharmaceuticals PLC.
20160690 | G | Lightyear Fund III, L.P.; American International Group, Inc.; Lightyear Fund III, L.P.
20160735 | G | Berkshire Fund VIII, L.P.; Mattress Firm Holding Corp.; Berkshire Fund VIII, L.P.
20160736 | G | Stockbridge Fund, L.P.; Mattress Firm Holding Corp.; Stockbridge Fund, L.P.
20160751 | G | LSF9 Stardust Holdings, LP; Wynnchurch Capital Partners III, L.P.; LSF9 Stardust Holdings, LP.
20160762 | G | General Electric Company; Plains All American Pipeline, L.P.; General Electric Company.
20160765 | G | Ivy Holdings, Inc.; Crozer-Keystone Health System; Ivy Holdings, Inc.
20160770 | G | Oracle Corporation; Ravello Systems Ltd.; Oracle Corporation.
20160777 | G | Intermediate Capital Group plc; VSS Communications Parallel Partners IV, L.P.; Intermediate Capital Group plc.
02/29/2016
20160711 | G | Communications Sales & Leasing, Inc.; Associated Partners, L.P.; Communications Sales & Leasing, Inc.
20160747 | G | EQT VII (No. 1) Limited Partnership; Kuoni Travel Holding Ltd.; EQT VII (No. 1) Limited Partnership.
20160782 | G | Terra Energy Partners LLC; WPX Energy, Inc.; Terra Energy Partners LLC.

FOR FURTHER INFORMATION CONTACT: Theresa Kingsberry, Program Support Specialist, Federal Trade Commission, Premerger Notification Office, Bureau of Competition, Room CC-5301, Washington, DC 20024, (202) 326-3100.

By direction of the Commission.
Donald S. Clark,
Secretary.

[FR Doc. 2016-10050 Filed 4-28-16; 8:45 am]

BILLING CODE 6750-01-P